DEPARTMENT OF TRANSPORTATION

Federal Motor Carrier Safety Administration

[Docket No. FMCSA-2025-0101]

Commercial Driver's License Standards: Application for Exemption; Massachusetts Department of State Police

AGENCY: Federal Motor Carrier Safety Administration (FMCSA), Department of Transportation (DOT).

ACTION: Notice of final disposition; grant of application for exemption.

SUMMARY: FMCSA announces its decision to grant an exemption to the Massachusetts Department of State Police allowing the State to waive specific portions of the commercial driver's license (CDL) skills test for CDL applicants who take the skills test on the island of Martha's Vineyard and issue those drivers a restricted CDL. The Agency grants this exemption because the island of Martha's Vineyard does not have the highway infrastructure to support a demonstration of certain on-road safe driving skills required by the CDL skills test requirements. FMCSA concludes that granting the exemption, subject to the terms and conditions set forth below, is likely to achieve a level of safety equivalent to or greater than the level of safety that would be achieved absent the exemption.

DATES: The exemption is effective from December 31, 2025 and expires December 31, 2027.

FOR FURTHER INFORMATION CONTACT: Mr. Richard Clemente, FMCSA Driver and Carrier Operations Division; Office of Carrier, Driver and Vehicle Safety Standards; 771 216-2436; richard.clemente@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2025-0101/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 383.113(c)(2) and (4), CDL applicants must demonstrate, respectively, the ability to signal appropriately when changing direction in traffic and to choose a safe gap for changing lanes, passing other vehicles, and crossing or entering traffic. As prescribed in 49 CFR 383.153(a)(10)(ix), a State has the discretion to impose restrictions on a CDL or create its own restrictions using additional codes for additional restrictions, as long as each such restriction code is fully explained on the front or back of the CDL document.

Applicant's Request

The Massachusetts Department of State Police's application for exemption was described in detail in a Federal Register notice published on July 1, 2025 (90 FR 28851) and will not be repeated as the facts have not changed.

IV. Public Comments

The Agency received five comments, all in support of granting the exemption. All of the submitted comments emphasized the lack of infrastructure on Martha's Vineyard. Martha's Vineyard Public Schools said, “The Martha's Vineyard community does not have the infrastructure for applicant drivers to demonstrate the two sets of lane changes required by the CDL skills test.” Island Energy, Inc., said, “The island has many rural roads that are narrow with posted low speed zones. There are no four lane roads anywhere on Martha's Vineyard but it is a challenging area to operate trucking.”

Some of the commenters mentioned the cost burden of transporting commercial motor vehicles between Martha's Vineyard and the mainland of Massachusetts. The Martha's Vineyard Transit Authority (VTA) said, “The VTA, as well as other public and private operators of CDL vehicles, would be significantly impacted if we have to travel off island to complete the CDL test. It would cost manpower as well as tie up equipment to go off island. The impact of not being able to road test CDL applicants on Martha's Vineyard is an extremely expensive and a logistical nightmare.” Carroll's MVRT commented, “We have a lot of interest from individuals wanting to obtain their CDL but are unable to because of the long commute time, expense and amount of effort.”

V. FMCSA Decision

FMCSA has evaluated the Massachusetts Department of State Police's application for an exemption and exhibits, and the public comments. Based on its analysis, FMCSA has determined that granting the exemption will likely achieve a level of safety equivalent to, or greater than, the level that would be achieved absent such exemption, and grants the Massachusetts Department of State Police an exemption to use an alternative route to administer the part of the CDL skills test that requires a demonstration of two sets of lane changes for applicants taking the CDL skills test on Martha's Vineyard. The State of Massachusetts must issue those drivers restricted CDLs limiting the drivers to operating a CMV on Martha's Vineyard. Allowing the Massachusetts Department of State Police to use an alternative route to administer portions of the safe on-road driving skills test and to issue restricted CDLs will address the infrastructure barriers while establishing safeguards to achieve an equivalent level of safety.

VI. Exemption

A. Applicability of Exemption

This exemption is applicable to the Massachusetts Department of State Police when conducting the CDL skills test on the island of Martha's Vineyard.

B. Terms and Conditions

The Massachusetts Department of State Police and drivers operating under this exemption are subject to the following terms and conditions:

1. The Massachusetts Department of State Police may waive only the following portions of the CDL skills test, as set forth in 49 CFR 383.113(c), that cannot be performed due to infrastructure limitations on Martha's Vineyard:

a. ability to signal appropriately when changing direction in traffic (49 CFR 383.113(c)(2)); and

b. ability to choose a safe gap for changing lanes, passing other vehicles, and for crossing or entering traffic (49 CFR 383.113(c)(4)).

2. The Massachusetts Department of State Police must comply with 49 CFR 383.133(b) and 383.135(a) of the knowledge tests standards for testing procedures and methods set forth in 49 CFR part 383, subpart H, and must continue to administer knowledge tests that fulfill the content requirements of subpart G.

3. Drivers applying for a CDL under this exemption must take the CDL skills test on the island of Martha's Vineyard.

4. Drivers issued a restricted CDL under this exemption may operate a CMV only on the island of Martha's Vineyard.

5. The Massachusetts Department of State Police must establish a new State CDL restriction, “R—Restriction,” with the following description printed on the back of the license “Restricted to Martha's Vineyard.” These restricted CDLs will not be valid for use anywhere other than on the island of Martha's Vineyard.

6. The drivers must comply with all other applicable Federal Motor Carrier Safety Regulations (49 CFR part 350-399).

C. Preemption

In accordance with 49 U.S.C. 31315(d), as implemented by 49 CFR 381.600, during the period this exemption is in effect, no State shall enforce any law or regulation that conflicts with or is inconsistent with this exemption with respect to a person operating under the exemption.

D. Notification to FMCSA

The Massachusetts Department of State Police must provide to FMCSA, upon request, a list of all drivers issued restricted CDLs under this exemption.

E. Termination

FMCSA does not believe that drivers covered by this exemption will experience any deterioration of their safety record. The Agency will, however, rescind the exemption if: (1) the Massachusetts Department of State Police or drivers operating under the exemption fail to comply with the terms and conditions of the exemption; (2) the exemption results in a lower level of safety than was maintained before it was granted; or (3) continuation of the exemption would not be consistent with the goals and objective of 49 U.S.C. 31136(e) and 31315(b).

Derek Barrs,
Administrator.

[FR Doc. 2025-24111 Filed 12-30-25; 8:45 am]

BILLING CODE 4910-EX-P